DEPARTMENT OF TRANSPORTATION

Federal Highway Administration

Environmental Assessment: Milwaukee County, WI

AGENCY: Federal Highway Administration (FHWA), DOT.

ACTION: Notice of intent to prepare an Environmental Assessment.

SUMMARY: The FHWA is issuing this notice to advise the public that an Environmental Assessment will be prepared for a proposed interchange project in Milwaukee County, Wisconsin by the Wisconsin Department of Transportation (WisDOT).

FOR FURTHER INFORMATION CONTACT: David Scott, FHWA, Suite 8000 525 Junction Road, Madison, WI 53717; Telephone: (608) 829-7522.

SUPPLEMENTARY INFORMATION: The Federal Highway Administration (FHWA), in cooperation with the Wisconsin Department of Transportation (WisDOT), will prepare an Environmental Assessment on a proposal to improve the Zoo Interchange (I-94 and I-894/US 45 interchange) and adjacent interchanges in Milwaukee County, WI; a distance of approximately 7 miles. This freeway interchange has emerging pavement and structural needs, safety issues and design deficiencies. The proposed project may require full reconstruction and redesign of the Zoo Interchange as well as interchanges within the project limits of US 45 and Center Street on the north, I-94 at 116th on the west, I-94 and 76th Street on the east and I-894/US 45 at Union Pacific Railroad south of Greenfield Avenue on the south. The Environmental Assessment will evaluate the Zoo Interchange, I-94 and US 45 freeway mainline for the entire corridor as well as the service interchanges in Milwaukee County. Those service interchanges include US 45 and North Avenue, US 45 and Swan Boulevard/Watertown Plank Road, US 45 and Wisconsin Avenue/Bluemound Road, US 45/I-894 and Greenfield Avenue, I-94 and STH 100/108th Street, and I-94 and 84th Street interchanges.

The proposed Zoo Interchange project is intended to make necessary safety improvements and to accommodate existing and projected future traffic volumes through the interchange.

Public involvement will be solicited throughout this process including involvement from minority and low-income populations in the project study area to ensure that the construction of the corridor does not create disproportionately high and adverse environmental and health impacts to these communities. Public workshops and a series of public information meetings will be held during the project study. Public notice will be given as to the time and place of all workshops and public information meetings. In addition, a public hearing will be held after the Environmental Assessment has been prepared. A Zoo Interchange project study email address and a public website will be maintained throughout the study for public comment and information at http://www.sefreeways.org. To ensure that the full range of issues related to this proposed action are addressed and all significant issues identified, comments and suggestions are invited from all interested parties. Comments and questions concerning the proposed action and the Environmental Assessment should be directed to the FHWA at the address provided above.

(Catalog of Federal Domestic Assistance Program Number 20.205, Highway Planning and Construction. The regulations implementing Executive Order 12372 regarding intergovernmental consultation on Federal programs and activities apply to this program.)

Authority: 23 U.S.C. 315; 49 CFR 1.48.

Issued on: February 13, 2008.
David J. Scott,
Southeast Freeways Coordinator, Federal Highway Administration, Madison, Wisconsin.

[FR Doc. E8-3196 Filed 2-20-08; 8:45 am]

BILLING CODE 4910-22-P